DEPARTMENT OF AGRICULTURE

Animal and Plant Health Inspection Service

9 CFR Part 3

[Docket No. APHIS-2006-0044]

Animal Welfare; Elephants

AGENCY: Animal and Plant Health Inspection Service, USDA.

ACTION: Notice of petition and request for comments; extension of comment period.

SUMMARY: We are extending the comment period for our notice of petition and request for comments concerning the handling, care, treatment, and transport of elephants covered by the Animal Welfare Act. This action will allow interested persons additional time to prepare and submit comments.

DATES: We will consider all comments that we receive on or before November 9, 2006.

ADDRESSES: You may submit comments by either of the following methods:

• Federal eRulemaking Portal: Go to http://www.regulations.gov, select “Animal and Plant Health Inspection Service” from the agency drop-down menu, then click “Submit.” In the Docket ID column, select APHIS-2006-0044 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0044, Regulatory Analysis and Development, PPD, APHIS, Station 3A-03.8, 4700 River Road Unit 118, Riverdale, MD 20737-1238. Please state that your comment refers to Docket No. APHIS-2006-0044.

Reading Room: You may read any comments that we receive on Docket No. APHIS-2006-0044 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Barbara Kohn, Senior Staff Veterinarian, Animal Care, APHIS, 4700 River Road Unit 84, Riverdale, MD 20737-1234; (301) 734-7833.

SUPPLEMENTARY INFORMATION: On August 9, 2006, we published in the Federal Register (71 FR 45438-45439, Docket No. APHIS-2006-0044) a notice of petition and request for comments. That document notified the public that the Animal and Plant Health Inspection Service had received a petition from In Defense of Animals requesting that we issue an interpretive rule or policy to clarify the space and living conditions required for captive elephants, and that we enforce the Animal Welfare Act and its implementing regulations by requiring that exhibitors fully comply with the regulations. We solicited comments from the public regarding the petition, and whether we should continue to regulate the handling, care, treatment, and transport of elephants covered by the Animal Welfare Act under the general standards in the regulations or promulgate specific standards for elephants. We also requested comments regarding what should be included in such standards.

Comments on the notice were required to be received on or before October 10, 2006. We are extending the comment period on Docket No. APHIS-2006-0044 for an additional 30 days. This action will allow interested persons additional time to prepare and submit comments.

Authority: 7 U.S.C. 2131-2159; 7 CFR 2.22, 2.80, and 371.7.

Done in Washington, DC, this 12th day of September 2006.
Nick Gutierrez,
Acting Administrator, Animal and Plant Health Inspection Service.

[FR Doc. E6-15328 Filed 9-14-06; 8:45 am]

BILLING CODE 3410-34-P